LEGAL SERVICES CORPORATION

Sunshine Act Meeting

DATE AND TIME: The Legal Services Corporation's Institutional Advancement Committee will meet telephonically on April 23, 2013. The meeting will commence at 4:00 p.m., Eastern Daylight Time (EDT), and will continue until the conclusion of the Committee's agenda.

LOCATION: John N. Erlenborn Conference Room, Legal Services Corporation Headquarters, 3333 K Street NW., Washington DC 20007.

PUBLIC OBSERVATION: Members of the public who are unable to attend in person but wish to listen to the public proceedings may do so by following the telephone call-in directions provided below.

CALL-IN DIRECTIONS FOR OPEN SESSIONS: • Call toll-free number: 1-866-451-4981;

• When prompted, enter the following numeric pass code: 5907707348

• When connected to the call, please immediately “MUTE” your telephone.

Members of the public are asked to keep their telephones muted to eliminate background noises. To avoid disrupting the meeting, please refrain from placing the call on hold if doing so will trigger recorded music or other sound. From time to time, the presiding Chair may solicit comments from the public.

STATUS OF MEETING: Open, except that, upon a vote of the Board of Directors, the meeting may be closed to the public to discuss prospective funders for LSC's development activities and 40th anniversary celebration and prospective members for an honorary auxiliary group.

A verbatim written transcript will be made of each closed session meeting of the Institutional Advancement Committee. The transcript of any portion of the closed sessions falling within the relevant provisions of the Government in the Sunshine Act, 5 U.S.C. 552b(c)(6) and (9) will not be available for public inspection. A copy of the General Counsel's Certification that, in his opinion, the closings are authorized by law will be available upon request.

MATTERS TO BE CONSIDERED:

Open

1. Approval of agenda.

2. Discussion of fundraising objectives.

3. Discussion of fundraising policies.

4. Public comment.

5. Consider and act on other business.

Closed

6. Discussion of prospective funders for LSC's development activities and 40th anniversary celebration.

7. Discussion of prospective members for an honorary auxiliary group.

8. Consider and act on adjournment of meeting.

CONTACT PERSON FOR INFORMATION: Katherine Ward, Executive Assistant to the Vice President & General Counsel, at (202) 295-1500. Questions may be sent by electronic mail to FR_NOTICE_QUESTIONS@lsc.gov.

ACCESSIBILITY: LSC complies with the Americans with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: April 9, 2013.
Atitaya C. Rok,
Staff Attorney.

[FR Doc. 2013-08803 Filed 4-10-13; 4:15 pm]

BILLING CODE 7050-01-P